DEPARTMENT OF COMMERCE

National Institute of Standards and Technology

[Docket Number 130305199-3199-01]

Manufacturing Extension Partnership (MEP) Center for Nebraska; Availability of Funds

AGENCY: National Institute of Standards and Technology (NIST), United States Department of Commerce (DoC).

ACTION: Notice.

SUMMARY: NIST invites applications from eligible applicants for funding projects that provide manufacturing extension services to primarily small- and medium-sized manufacturers in the United States. Specifically, NIST seeks applications to re-establish an MEP center in Nebraska.

DATES: Electronic applications must be received no later than 11:59 p.m. Eastern Time on June 10, 2013. Paper applications must be received by NIST by 5:00 p.m. Eastern Time on June 10, 2013.

ADDRESSES: For applicants without Internet access, the standard application package may be obtained by contacting Diane Henderson, National Institute of Standards and Technology, Manufacturing Extension Partnership, 100 Bureau Drive, Stop 4800, Gaithersburg, MD 20899-4800, phone (301) 975-5105, or by downloading the application package through Grants.gov. Paper submissions should be sent to: Diane Henderson, National Institute of Standards and Technology, Manufacturing Extension Partnership, 100 Bureau Drive, Stop 4800, Gaithersburg, MD 20899-4800. Electronic submissions should be submitted to www.grants.gov.

FOR FURTHER INFORMATION CONTACT: Administrative, budget, cost-sharing, and eligibility questions and other programmatic questions should be directed to Diane Henderson at Tel: (301) 975-5105; Email: diane.henderson@nist.gov; Fax: (301) 963-6556. Grants Administration questions should be addressed to: Scott McNichol, Grants and Agreements Management Division, National Institute of Standards and Technology, 100 Bureau Drive, Stop 1650, Gaithersburg, MD 20899-1650; Tel: (301) 975-5603; Email: scott.mcnichol@nist.gov; Fax: (301) 926-6458. For assistance with using Grants.gov contact Christopher Hunton at Tel: (301) 975-5718; Email: christopher.hunton@nist.gov; Fax: (301) 840-5976. All questions and responses will be posted on the MEP Web site, www.nist.gov/mep.

SUPPLEMENTARY INFORMATION: Electronic access: Applicants are strongly encouraged to read the corresponding Federal Funding Opportunity (FFO) announcement available at www.grants.gov for complete information about this program, including all program requirements and instructions for applying by paper or electronically. The FFO may be found by searching under the Catalog of Federal Domestic Assistance Name and Number provided below.

Authority: 15 U.S.C. 278k, as implemented in 15 CFR part 290

Catalog of Federal Domestic Assistance Name and Number: Manufacturing Extension Partnership—11.611

Webinar Information Session: NIST MEP will hold an information session for organizations considering applying to this opportunity. An information session in the form of a webinar will be held approximately 14 business days after publication of this notice. The exact date and time of the webinar will be posted on the MEP Web site at www.nist.gov/mep. Organizations wishing to participate in the webinar must sign up by contacting Diane Henderson at diane.henderson@nist.gov.

Program Description: NIST invites applications from eligible applicants for funding one (1) MEP center to provide manufacturing extension services to primarily small- and medium-sized manufacturers in the state of Nebraska. The MEP center will become part of the MEP national system of extension service providers, currently comprised of more than 400 centers and field offices located throughout the United States and Puerto Rico.

The objective of an MEP center is to provide manufacturing extension services that enhance productivity, innovative capacity, and technological performance, and strengthen the global competitiveness of primarily small- and medium-sized U.S.-based manufacturing firms in its service region. Manufacturing extension services are provided by utilizing the most cost effective, local, leveraged resources for those services through the coordinated efforts of a regionally-based MEP center and local technology resources. The management and operational structure of an MEP center is not prescribed, but should be based upon the characteristics of the manufacturers in the region and locally available resources with demonstrated experience working with manufacturers.

It is not the intent of this program that the centers perform research and development.

Information regarding MEP and these centers is available at www.nist.gov/mep.

Funding Availability: NIST anticipates funding one (1) application at the level of up to $600,000 for an MEP Center in the state of Nebraska. The project awarded under this notice and the corresponding FFO will have a budget and performance period of one (1) year. The award may be renewed on an annual basis subject to the review requirements described in 15 CFR 290.8.

Cost Share Requirements: This Program requires a non-Federal cost share of at least 50 percent of the total project cost for the first year of operation. Any renewal funding of an award will require non-Federal cost sharing as follows:

Year of center operation | Maximum NIST share | Minimum non-federal share
1-3 | ½ | ½
4 | ⅖ | ⅗
5 and beyond | ⅓ | ⅔

Non-Federal cost sharing is that portion of the project costs not borne by the Federal Government. The applicant's share of the MEP center expenses may include cash, services, and third party in-kind contributions, as described at 15 CFR 14.23 or 24.24, as applicable, and the MEP program rule, 15 CFR 290.4(c). No more than 50% of the applicant's total non-Federal cost share may be third party in-kind contributions of part-time personnel, equipment, software, rental value of centrally located space, and related contributions, per 15 CFR. 290.4(c)(5). The source and detailed rationale of the cost share, including cash, full- and part-time personnel, and in-kind donations, must be documented in the budget submitted with the application and will be considered as part of the evaluation review under Section V.1(d)(4) of the FFO.

All non-Federal cost share contributions require a letter of commitment signed by an authorized official from each source.

Any cost sharing must be in accordance with the “cost sharing or matching” provisions of 15 CFR part 14, Uniform Administrative Requirements for Grants and Cooperative Agreements with Institutions of Higher Education, Hospitals, Other Non-Profit, and Commercial Organizations or 15 CFR part 24, Uniform Administrative Requirements for Grants and Cooperative Agreements to State and Local Governments, as applicable.

As with the Federal share, any proposed costs included as non-Federal cost sharing must be an allowable/eligible cost under this Program and the following applicable Federal cost principles: (1) Institutions of Higher Education: 2 CFR part 220 (OMB Circular A-21); (2) Nonprofit Organizations: 2 CFR part 230 (OMB Circular A-122); and (3) State, Local and Indian Tribal Governments: 2 CFR part 225 (OMB Circular A-87).

As with the Federal share, any proposed non-Federal cost sharing will be made a part of the cooperative agreement award and will be subject to audit if the project receives MEP funding.

Eligibility: The eligibility requirements given in this section will be used in lieu of those published in the MEP regulations found at 15 CFR part 290, specifically 15 CFR 290.5(a)(1). Each award recipient must be a U.S.-based nonprofit institution or organization. For the purpose of this notice and the corresponding FFO, nonprofit organizations include universities and state and local governments. An eligible organization may work individually or include proposed subawards or contracts with others in a project application, effectively forming a team. Existing MEP centers are eligible. However, as discussed in Section III.3.b. of the FFO, NIST will generally not consider applications for funding that propose an organizational or operational structure that, in whole or in part, delegates or transfers to another person, institution, or organization the applicant's responsibility for core MEP management and oversight functions.

Application Requirements: Applications must be submitted in accordance with the requirements set forth in the corresponding FFO announcement.

Application/Review Information: The evaluation criteria, selection factors, and review and selection process provided in this section will be used for this competition in lieu of that provided in the MEP regulations found at 15 CFR part 290, specifically 15 CFR 290.6 and 290.7.

The applications will be evaluated based on the evaluation criteria described below, which are set in the context of the applicant's ability to align the application for accomplishing the objectives of NIST MEP's Next Generation Strategy: Continuous Improvement, Technology Acceleration, Supplier Development, Sustainability and Workforce. The NIST MEP Next Generation Strategy can be found at www.nist.gov/mep. As discussed further below, applications will be scored based on these factors, each of which will be given equal weight in the evaluation process, with a maximum score of 100.

The evaluation criteria that will be used in evaluating applications are as follows:

a. Identification of Target Firms in Proposed Region. (20 pts) Does the application clearly address the entire service region, providing for a large enough population of target firms of small- and medium-sized manufacturers that the applicant understands and can serve, and which is not presently served by an existing Center? Does the applicant describe the types of services and delivery approaches proposed for the region?

(1) Market Analysis. Demonstrated understanding of the service region's manufacturing base, including business size, industry types, product mix, and technology requirements. Explain how the understanding will inform resources and services to be offered to firms in the region.

(2) Geographical Location. Concentration of industry and economic significance of the service region's manufacturing base. Geographical diversity of the Center and its regional offices will be a factor in evaluation of applications. How does the applicant intend to reach manufacturing across the region?

b. Technology Resources. (20 pts) Does the application assure strength in technical personnel and programmatic resources, full-time staff, facilities, equipment, and linkages to external sources of technology to develop and transfer technologies related to NIST research results and expertise in the objectives outlined in 15 CFR 290.3 (b) (1-4) as well as the NIST MEP's Next Generation Strategies: Continuous Improvement, Technology Acceleration, Supplier Development (Supply Chain), Environmental Sustainability and Workforce? Does the application describe the partnership's contractual relationships and monitoring plans?

c. Technology Delivery Mechanisms. (20 pts) Does the application clearly and sharply define an effective methodology for delivering advanced manufacturing technology to small- and medium-sized manufacturers and mechanism(s) for accelerating the adoption of technologies for both process improvement and new product adoption? Does the application describe the center business model?

(1) Linkages. Development of effective partnerships or linkages to third parties such as industry, universities, nonprofit economic organizations, and state governments who will amplify the Center's technology delivery to reach a large number of clients in its service region.

(2) Program Leverage. Provision of an effective strategy to amplify the Center's technology delivery approaches to achieve the proposed objectives as described in 15 CFR 290.3(e).

d. Management and Financial Plan. (20 pts) Does the application define a management structure and assure management personnel to carry out development and operation of an effective Center? How do the management structure and personnel support achievements of the MEP mission and objectives?

(1) Organizational Structure. Completeness and appropriateness of the organizational structure, and its focus on the mission of the Center. Assurance of local full-time top management of the Center. This includes a clearly presented Oversight Board structure with a membership representing small- and medium- sized manufacturers in the region. MEP has determined that centers clearly benefit when a majority or more of its Board members/Trustees compose a membership representing principally small- and medium-sized manufacturers, as well as committed partners, and do not have dual obligations to more than one Center. Two-thirds of the members of the Center's oversight board must not be members of any other MEP Center boards. Center board members should not include MEP extension service delivery organizations receiving financial payments from the center.

(2) Program Management. Effectiveness of the planned methodology of program management. This criterion includes the identification of committed local partners and demonstrated experience of the leadership team in manufacturing, outreach and partnership development.

(3) Internal Evaluation. Effectiveness of the planned continuous internal evaluation of program activities. The application must provide the methodology and periodic activity for continuous internal evaluation of the program activities and demonstrate the effectiveness of defined methodology.

(4) Plans for Financial Cost Share. Demonstrated stability and duration of the applicant's funding commitments. Identification of the sources of cost share and the general terms of funding commitments. The total level of cost share and detailed rationale of the cost share, including cash and in-kind, must be documented in the budget submitted with the application.

e. Budget.(20 pts) Suitability and focus of the applicant's detailed one-year budget and budget outline for years two (2) through five (5).

Selection Factors. The Selecting Official shall select applications for award based upon the rank order of the applications, and may select an application out of rank based on one or more of the following selection factors:

a. The availability of Federal funds.

b. The need to assure appropriate regional distribution.

c. Whether the project duplicates other projects funded by DoC or by other Federal agencies.

Review and Selection Process

a. Initial Administrative Review of Applications. An initial review of timely received applications will be conducted to determine eligibility, completeness, and responsiveness to this notice and the corresponding FFO and the scope of the stated program objectives. Applications determined to be ineligible, incomplete, and/or non-responsive may be eliminated from further review.

b. Full Review of Eligible, Complete, and Responsive Applications. Applications that are determined to be eligible, complete, and responsive will proceed for full reviews in accordance with the review and selection processes below:

(1) Evaluation and Review.

NIST will appoint an evaluation panel, consisting of at least three technically qualified reviewers to evaluate each application based on the evaluation criteria (see Section V.1. of the FFO) and assign a numeric score for each application. If more than one non-Federal employee reviewer is used on the panel, the panel member reviewers may discuss the applications with each other, but scores will be determined on an individual basis, not as a consensus. Panelists will assign each application a score, based on the application's responsiveness to the criteria above, with a maximum score of 100. Applications with an average score of 70 or higher out of 100 will be deemed finalists.

Finalists may receive written follow-up questions in order for the evaluation panel to gain a better understanding of the applicant's proposal. Once the evaluation panel has completed their review of the applicant's responses, a conference call or site visit may be deemed necessary. If deemed necessary, either all finalists will participate in a conference call or all finalists will receive site visits that will be conducted by the same evaluation panel reviewers referenced in the preceding paragraph. NIST may enter into negotiations with the finalists concerning any aspect of their application. Finalists will be reviewed and evaluated, and evaluation panel reviewers may revise their assigned numeric scores based on the evaluation criteria (see Section V.1. of the FFO) as a result of the conference call or site visit.

(2) Ranking and Selection.

Based on the panel member reviewers' final numeric scores, a rank order will be prepared and provided to the Selecting Official for further consideration. The Selecting Official, who is the Director of the NIST MEP Program, will then select funding recipients based upon the rank order and the selection factors (see Section V.2. of the FFO).

In accordance with the Federal appropriations law expected to be in effect at the time of project funding, NIST anticipates that the selected applicant will be provided a form and asked to make a representation regarding any unpaid delinquent tax liability or felony conviction under any Federal law.

NIST reserves the right to negotiate the budget costs with any applicant selected to receive an award, which may include requesting that the applicant remove certain costs. Additionally, NIST may request that the successful applicant modify objectives or work plans and provide supplemental information required by the agency prior to award. NIST also reserves the right to reject an application where information is uncovered that raises a reasonable doubt as to the responsibility of the applicant. NIST may select part, some, all, or none of the applications. The final approval of selected applications and issuance of awards will be by the NIST Grants Officer. The award decisions of the NIST Grants Officer are final.

Anticipated Announcement and Award Date. Review, selection, and award processing is expected to be completed in August 2013. The earliest anticipated start date for awards made under this notice and the corresponding FFO is expected to be December 1, 2013.

Additional Information

a. Application Replacement Pages. Applicants may not submit replacement pages and/or missing documents once an application has been submitted. Any revisions must be made by submission of a new application that must be received by NIST by the submission deadline.

b. Notification to Unsuccessful Applicants. Unsuccessful applicants will be notified in writing.

c. Retention of Unsuccessful Applications. One (1) copy of each non-selected application will be retained for three (3) years for record keeping purposes and the other two (2) copies will be destroyed. After three (3) years the remaining copy will be destroyed.

Administrative and National Policy Requirements

The Department of Commerce Pre-Award Notification Requirements: The DoC Pre-Award Notification Requirements for Grants and Cooperative Agreements, which are contained in the Federal Register notice of December 17, 2012 (77 FR 74634), are applicable to this notice and the corresponding FFO and are available at http://www.osec.doc.gov/oam/grants_management/policy/documents/Department%20of%20Commerce%20Financial%20Assistance%20Pre%20Award%20Notice%20-%2077%20FR%2074634.pdf.

Employer/Taxpayer Identification Number (EIN/TIN), Dun and Bradstreet Data Universal Numbering System (DUNS), and System for Award Management (SAM): All applicants for Federal financial assistance are required to obtain a universal identifier in the form of DUNS number and maintain a current registration in the Federal government's primary registrant database, SAM. On the form SF-424 items 8.b. and 8.c., the applicant's 9-digit EIN/TIN and 9-digit DUNS number must be consistent with the information in SAM (https://www.sam.gov/) and the Automated Standard Application for Payment System (ASAP). For complex organizations with multiple EINs/TINs and DUNS numbers, the EIN/TIN and DUNS numbers MUST be the numbers for the applying organization. Organizations that provide incorrect/inconsistent EIN/TIN and DUNS numbers may experience significant delays in receiving funds if their application is selected for funding. Confirm that the EIN/TIN and DUNS number are consistent with the information on the SAM and ASAP.

Per 2 CFR part 25, each applicant must:

(1) Be registered in the Central Contractor Registration (CCR) before submitting an application, noting the CCR now resides in SAM;

(2) Maintain an active CCR registration, noting the CCR now resides in SAM, with current information at all times during which it has an active Federal award or an application under consideration by an agency; and

(3) Provide its DUNS number in each application or application it submits to the agency.

The applicant can obtain a DUNS number from Dun and Bradstreet. A DUNS number can be created within one business day. The CCR or SAM registration process may take five or more business days to complete. If you are currently registered with the CCR, you may not need to make any changes. However, please make certain that the TIN associated with your DUNS number is correct. Also note that you will need to update your CCR registration annually. This may take three or more business days to complete. Information about SAM is available at SAM.gov.

See also 2 CFR part 25 and the Federal Register notice published on September 14, 2010, at 75 FR 55671.

Paperwork Reduction Act: The standard forms in the application kit involve a collection of information subject to the Paperwork Reduction Act. The use of Standard Forms 424, 424A, 424B, SF-LLL, and CD-346 have been approved by OMB under the respective Control Numbers 0348-0043, 0348-0044, 0348-0040, 0348-0046, and 0605-0001. MEP program-specific application requirements have been approved by OMB under Control Number 0693-0056.

Notwithstanding any other provision of the law, no person is required to respond to, nor shall any person be subject to a penalty for failure to comply with, a collection of information subject to the requirements of the Paperwork Reduction Act, unless that collection of information displays a currently valid OMB Control Number.

Funding Availability and Limitation of Liability: Funding for the program listed in this notice and the corresponding FFO is contingent upon the availability of appropriations. In no event will NIST or DoC be responsible for application preparation costs if this program fails to receive funding or is cancelled because of agency priorities. Publication of this notice and the corresponding FFO does not oblige NIST or DoC to award any specific project or to obligate any available funds.

Executive Order 12866: This funding notice was determined to be not significant for purposes of Executive Order 12866.

Executive Order 13132 (Federalism): It has been determined that this notice does not contain policies with federalism implications as that term is defined in Executive Order 13132.

Executive Order 12372: Proposals under this program are not subject to Executive Order 12372, “Intergovernmental Review of Federal Programs.”

Administrative Procedure Act/Regulatory Flexibility Act: Notice and comment are not required under the Administrative Procedure Act (5 U.S.C. 553) or any other law, for matters relating to public property, loans, grants, benefits or contracts (5 U.S.C. 553 (a)). Moreover, because notice and comment are not required under 5 U.S.C. 553, or any other law, for matters relating to public property, loans, grants, benefits or contracts (5 U.S.C. 553(a)), a Regulatory Flexibility Analysis is not required and has not been prepared for this notice, 5 U.S.C. 601 et seq.

Dated: April 2, 2013.
Phillip Singerman,
Associate Director for Innovation & Industry Services.

[FR Doc. 2013-08232 Filed 4-8-13; 8:45 am]

BILLING CODE 3510-13-P